DEPARTMENT OF DEFENSE

Office of the Secretary

[Transmittal Nos. 13-21]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-21 with attached transmittal, and policy justification.

Dated: August 13, 2013.
Aaron Siegel,
Alternate OSD Federal Register Liaison Officer, Department of Defense.

BILLING CODE 5001-06-P

BILLING CODE 5001-06-C

Transmittal No. 13-21

Notice of Proposed Issuance of Letter of Offer Pursuant to Section 36(b) (1) Of the Arms Export Control Act, as amended

(i) Prospective Purchaser: Iraq

(ii) Total Estimated Value:

Major Defense Equipment * | $ 258 million
Other | $ 81 million
Total | $ 339 million

(iii) Description and Quantity or Quantities of Articles or Services under Consideration for Purchase: 19 Mobile Troposcatter Radio Systems, 10 Mobile Microwave Radio Systems, spare and repair parts, support equipment, publications and technical data, personnel training and training equipment, site surveys, U.S. Government and contractor technical assistance, and other related elements of program and logistics support.

(iv) Military Department: U.S. Army (UFS)

(v) Prior Related Cases, if any: None

(vi) Sales Commission, Fee, etc., Paid, Offered, or Agreed to be Paid: None

(vii) Sensitivity of Technology Contained in the Defense Article or Defense Services Proposed to be Sold: None

(viii) Date Report Delivered to Congress: 5 August 2013

* As defined in Section 47(6) of the Arms Export Control Act.

POLICY JUSTIFICATION

Iraq—Mobile Troposcatter Radio Systems

The Government of Iraq has requested a possible sale of 19 Mobile Troposcatter Radio Systems, 10 Mobile Microwave Radio Systems, spare and repair parts, support equipment, publications and technical data, personnel training and training equipment, site surveys, U.S. Government and contractor technical assistance, and other related elements of program and logistics support. The estimated cost is $339 million.

This proposed sale will contribute to the foreign policy and national security of the United States by improving the Iraqi military's situational awareness and enhancing command and control from its National Military Headquarters to major subordinate commands.

The Government of Iraq intends to use these defense articles and services to provide critical redundancy for national level command and control.

This proposed sale of this equipment and support will not alter the basic military balance in the region.

The principal contractor will be Raytheon Company of Arlington, Virginia. There are no known offset agreements proposed in connection with this potential sale.

Implementation of this proposed sale will require U.S. Government and contractor representatives to travel to Iraq on an as-needed basis to provide program and technical support and training.

There will be no adverse impact on U.S. defense readiness as a result of this proposed sale.

[FR Doc. 2013-19976 Filed 8-15-13; 8:45 am]

BILLING CODE 5001-06-P